DEPARTMENT OF THE INTERIOR

Bureau of Land Management

National Park Service

[AZ 100-02-1610-DO-083A]

Grand Canyon Parashant National Monument

AGENCY: Bureau of Land Management, Arizona Strip Field Office, St. George, Utah; National Park Service, Lake Mead National Recreation Area, Boulder City, Nevada.

ACTION: Notice of Intent to (1) prepare a Resource Management Plan (RMP) for the Grand Canyon Parashant National Monument, designated January 11, 2000, (2) prepare a RMP for the Vermilion Cliffs National Monument, designated November 9, 2000, and (3) revise the 1992 Arizona Strip RMP. These three actions will require a single Environmental Impact Statement (EIS). These lands are located in Mohave and Coconino Counties, Arizona.

SUMMARY: This document provides notice that the Bureau of Land Management (BLM) intends to prepare a RMP with an associated EIS for the Arizona Strip Field Office. BLM will work in cooperation with the National Park Service (NPS) for lands administered by the NPS Lake Mead National Recreation Area in the Grand Canyon Parashant National Monument. Separate plans will be developed for the Vermilion Cliffs National Monument and the Grand Canyon Parashant National Monument. This planning activity encompasses approximately 2,800,000 acres of public land, including 1,052,000 acres in the Grand Canyon Parashant Monument and 293,000 acres in the Vermilion Cliffs National Monument. The plan will fulfill the needs and obligations set forth by the National Environmental Policy Act (NEPA), the Federal Land Policy and Management Act (FLPMA), the National Park Service Organic Act, the Lake Mead National Recreation Area Enabling Legislation, the two monument proclamations, and the NPS and BLM management policies. The BLM will work closely with interested parties to identify the management decisions that are best suited to the needs of the public. This collaborative process will take into account local, regional, and national needs and concerns. This notice initiates the public scoping process to identify planning issues and to develop planning criteria. The scoping process will include an evaluation of the existing RMP in the context of the needs and interests of the public and protection of the objects of historic and scientific interest specified in the proclamations.

Comments: Public meetings will be held throughout the plan scoping and preparation period. In order to ensure local community participation and input, public meeting locations will be rotated among towns, which could include St. George and Kanab, Utah; Flagstaff, Kingman, Page, and Phoenix, Arizona; and Mesquite and Las Vegas, Nevada. Early participation by all those interested is encouraged and will help determine the future management of the Grand Canyon Parashant and Vermilion Cliffs National Monuments and the Arizona Strip Field Office public lands. The publication of this notice will initiate the BLM and NPS scoping comment period. Scoping will last a minimum of 90 days. At least 15 days public notice will be given for activities where the public is invited to attend. Written comments will be accepted throughout the planning process at the addresses shown below. Meetings and comment deadlines will be announced through the local news media, newsletters and the BLM web site (www.az.blm.gov). In addition to the ongoing public participation process, formal opportunities for public participation will be provided through comment on the alternatives and upon publication of the joint BLM draft RMP/EIS and NPS draft General Management Plan (GMP)/EIS. Documents pertinent to this proposal may be examined at the Arizona Strip Field Office located in St. George, Utah. Comments, including names and street addresses of respondents, will be available for public review at the Arizona Strip Field Office located in St. George, Utah, during regular business hours 7:45 a.m. to 4:15 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: For further information and/or to have your name added to our mailing list, contact Dennis Curtis, Telephone 435 688-3202, or Diana Hawks, Telephone 435 688-3266, Bureau of Land Management, Arizona Strip Field Office, 345 E. Riverside Drive, St. George, Utah 84790; Fax 435 688-3388; or Jim Holland, Telephone 702 293-8986, National Park Service, Lake Mead National Recreation Area, 601 Nevada Highway, Boulder City, Nevada 89005; Fax 702 293-8967.

SUPPLEMENTARY INFORMATION: The designation of Grand Canyon Parashant and Vermilion Cliffs National Monuments and the changing needs and interests of the public necessitates a revision of the Arizona Strip RMP, 1992, and Lake Mead National Recreation Area GMP, 1986. Two monument plans and a revised RMP for the remaining BLM Arizona Strip area will be combined into one planning effort. These actions require three separate Records of Decision (ROD)within a single EIS.

Preliminary issues and management concerns have been identified by BLM and NPS personnel, other agencies, and in meetings with individuals and user groups. They represent BLM's and NPS's knowledge to date on the existing issues and concerns with current management. The major issue themes that will be addressed in the plan effort are: management and protection of public land resources, recreation/visitor use and safety; access and transportation on the public lands; integrating monument management with community, tribal, and other agency needs; and balancing multiple uses. After gathering public comments, the suggested issues will be placed in one of three categories:

1. Issues to be resolved in the plan.

2. Issues resolved through policy or administrative action.

3. Issues beyond the scope of this plan.

Rationale will be provided in the plan for each issue placed in category 2 or 3. In addition to the preceding major issues, management questions and concerns to be addressed in the plan include, but are not limited to: ecosystem health, riparian condition, threatened and endangered species habitat, wildlife habitat, reintroduction of native species, cultural resource protection and interpretation, recreation/visitor use, rangeland management, woodland product harvest, and minerals management. The following disciplines will be represented on the BLM/NPS planning team: wilderness, recreation, wildlife, range management, botany, fire ecology, forestry, geology, realty, cultural resources, soils, hydrology, Geographic Information Systems (GIS), and engineering. Where necessary and available, outside expertise will be used.

Background Information: On January 11, 2000, the President signed Proclamation 7265, creating the Grand Canyon Parashant National Monument. The monument encompasses approximately 1,052,000 acres of public lands in Mohave County, Arizona. It borders Nevada to the west and Grand Canyon National Park to the south and BLM managed public lands to the east and north. The Vermilion Cliffs National Monument was established by Presidential Proclamation on November 9, 2000, and is under the administration of the BLM. The monument is located on the Colorado Plateau in northern Arizona. It borders the Kaibab National Forest to the west, Glen Canyon National Recreation Area to the east, and the state of Utah to the north.

The Grand Canyon Parashant National Monument proclamation states that the NPS and the BLM shall manage the monument cooperatively and shall prepare an agreement to share, consistent with applicable laws, whatever resources are necessary to properly manage the monument; however, the NPS shall continue to have primary management authority over the portion of the monument within the Lake Mead National Recreation Area, and the BLM shall have primary management authority over the remaining portion of the monument. The plan will need to address and incorporate, to the extent possible, NPS policies, regulations and management directives.

The Arizona Strip RMP was completed in 1992 and amended in 1998 to implement the Mohave Desert Tortoise Recovery Plan. Several significant multi-discipline plans have recently been completed, including the Mt. Trumbull Resource Conservation Area Plan in 1995 and the Parashant Resource Conservation Area Plan in 1997. The Lake Mead National Recreation Area GMP was completed in 1986, and the Shivwits portion of this plan was revised as part of Parashant Interdisciplinary Plan completed cooperatively by the two agencies in 1997. We anticipate incorporating much of the information in the existing plans into this plan revision.

Roger G. Taylor,
Arizona Strip Field Manager.
William K. Dickinson,
Lake Mead National Recreation Area, Superintendent.

[FR Doc. 02-9597 Filed 4-23-02; 8:45 am]

BILLING CODE 4310-32-P